DEPARTMENT OF ENERGY

Federal Energy Regulatory Commission

[Docket No. CP01-52-000]

Raton Gas Transmission Company; Notice of Filing

January 12, 2001.

Take notice that on December 18, 2000, pursuant to Section 7(c) of the Natural Gas Act, 15 U.S.C. 717f(c), and Part 157 of the Federal Energy Regulatory Commission's (Commission) Regulations, Raton Gas Transmission Company (Raton) filed an abbreviated application for an amendment to its certificate of public convenience and necessity.

Raton requests that the Commission amend Raton's present certificate, and authorize Raton to transport natural gas on behalf of Zia Natural Gas Company, Raton Natural Gas Company and the City of Las Vegas, New Mexico.

Any person desiring to be heard or to protest said filing should file a motion to intervene or a protest with the Federal Energy Regulatory Commission, 888 First Street, NE., Washington, DC 20426, in accordance with Sections 385.211 or 385.214 of the Commission's Rules and Regulations. All such motions or protests must be filed on or before February 2, 2001. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-1579 Filed 1-19-01; 8:45 am]

BILLING CODE 6717-01-M